DEPARTMENT OF ENERGY

Federal Energy Regulatory Commission

Combined Notice of Filings #1

Take notice that the Commission received the following electric corporate filings:

Docket Numbers: EC20-46-000.

Applicants: AltaGas Pomona Energy Storage Inc.

Description: Application for Authorization Under Section 203 of the Federal Power Act, et al. of AltaGas Pomona Energy Storage Inc.

Filed Date: 3/13/20.

Accession Number: 20200313-5245.

Comments Due: 5 p.m. ET 4/3/20.

Take notice that the Commission received the following exempt wholesale generator filings:

Docket Numbers: EG20-98-000.

Applicants: Johanna Energy Center, LLC.

Description: Notice of Self-Certification of Exempt Wholesale Generator Status, LLC.

Filed Date: 3/13/20.

Accession Number: 20200313-5194.

Comments Due: 5 p.m. ET 4/3/20.

Docket Numbers: EG20-99-000.

Applicants: Dakota Range III, LLC.

Description: Notice of Self-Certification of Exempt Wholesale Generator Status of Dakota Range III, LLC.

Filed Date: 3/16/20.

Accession Number: 20200316-5045.

Comments Due: 5 p.m. ET 4/6/20.

Docket Numbers: EG20-100-000.

Applicants: Triple H Wind Project, LLC.

Description: Notice of Self-Certification of Exempt Wholesale Generator Status of Triple H Wind Project, LLC.

Filed Date: 3/16/20.

Accession Number: 20200316-5047.

Comments Due: 5 p.m. ET 4/6/20.

Docket Numbers: EG20-101-000.

Applicants: Las Lomas Wind Project, LLC.

Description: Notice of Self-Certification of Exempt Wholesale Generator Status of Las Lomas Wind Project, LLC.

Filed Date: 3/16/20.

Accession Number: 20200316-5048.

Comments Due: 5 p.m. ET 4/6/20.

Docket Numbers: EG20-102-000.

Applicants: Prairie Hill Wind Project, LLC.

Description: Notice of Self-Certification of Exempt Wholesale Generator Status of Prairie Hill Wind Project, LLC.

Filed Date: 3/16/20.

Accession Number: 20200316-5049.

Comments Due: 5 p.m. ET 4/6/20.

Take notice that the Commission received the following electric rate filings:

Docket Numbers: ER10-1819-024; ER10-1820-027; ER10-1874-010; ER19-9-004.

Applicants: Northern States Power Company a Minnesota corporation, Northern States Power Company a Wisconsin corporation, Mankato Energy Center, LLC, Mankato Energy Center II, LLC.

Description: Notice of Change in Status of Northern States Power Company, a Minnesota corporation, et al.

Filed Date: 3/13/20.

Accession Number: 20200313-5205.

Comments Due: 5 p.m. ET 4/3/20.

Docket Numbers: ER17-827-004.

Applicants: Midcontinent Independent System Operator, Inc., Entergy Services, LLC.

Description: Compliance filing: 2020-03-13_Entergy Attachment O Compliance Filing to be effective 6/1/2015.

Filed Date: 3/13/20.

Accession Number: 20200313-5154.

Comments Due: 5 p.m. ET 4/3/20.

Docket Numbers: ER20-649-001.

Applicants: AEP Energy Partners, Inc.

Description: Compliance filing: MBR Tariff, FERC Electric Tariff for Market Based Sales to be effective 1/1/2020.

Filed Date: 3/16/20.

Accession Number: 20200316-5075.

Comments Due: 5 p.m. ET 4/6/20.

Docket Numbers: ER20-652-001.

Applicants: Public Service Company of Oklahoma.

Description: Compliance filing: Market-Based Rates Tariff to be effective 1/1/2020.

Filed Date: 3/16/20.

Accession Number: 20200316-5071.

Comments Due: 5 p.m. ET 4/6/20.

Docket Numbers: ER20-1282-000.

Applicants: Midcontinent Independent System Operator, Inc., American Transmission Company LLC.

Description: Compliance filing: 2020-03-16_ATC LLC Compliance on Order 864 for Accumulated Deferred Income Taxes to be effective 1/27/2020.

Filed Date: 3/16/20.

Accession Number: 20200316-5012.

Comments Due: 5 p.m. ET 4/6/20.

Docket Numbers: ER20-1283-000.

Applicants: Southwest Power Pool, Inc.

Description: § 205(d) Rate Filing: 1518R19 Arkansas Electric Cooperative Corp NITSA NOA to be effective 3/1/2020.

Filed Date: 3/16/20.

Accession Number: 20200316-5025.

Comments Due: 5 p.m. ET 4/6/20.

Docket Numbers: ER20-1284-000.

Applicants: Southwest Power Pool, Inc.

Description: § 205(d) Rate Filing: 3164R1 Milligan 3 Wind LLC GIA to be effective 2/26/2020.

Filed Date: 3/16/20.

Accession Number: 20200316-5030.

Comments Due: 5 p.m. ET 4/6/20.

Docket Numbers: ER20-1285-000.

Applicants: Southwest Power Pool, Inc.

Description: § 205(d) Rate Filing: 3101R5 Heartland Consumers Power District NITSA and NOA to be effective 3/1/2020.

Filed Date: 3/16/20.

Accession Number: 20200316-5031.

Comments Due: 5 p.m. ET 4/6/20.

Docket Numbers: ER20-1296-000.

Applicants: San Diego Gas & Electric Company.

Description: Request for One Time Waiver of San Diego Gas & Electric Company of San Diego Gas & Electric Company.

Filed Date: 3/13/20.

Accession Number: 20200313-5225.

Comments Due: 5 p.m. ET 4/3/20.

Docket Numbers: ER20-1297-000.

Applicants: Southwest Power Pool, Inc.

Description: § 205(d) Rate Filing: 3635 Enel Trading and Evergy Kansas Central Meter Agent Agreement to be effective 2/25/2020.

Filed Date: 3/16/20.

Accession Number: 20200316-5072.

Comments Due: 5 p.m. ET 4/6/20.

Docket Numbers: ER20-1298-000.

Applicants: Midcontinent Independent System Operator, Inc.

Description: Compliance filing: 2020-03-16_MISO TO Compliance Order 864 for Accumulated Deferred Income Taxes to be effective 1/27/2020.

Filed Date: 3/16/20.

Accession Number: 20200316-5081.

Comments Due: 5 p.m. ET 4/6/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 16, 2020.
Nathaniel J. Davis, Sr.,
Deputy Secretary.

[FR Doc. 2020-05888 Filed 3-19-20; 8:45 am]

BILLING CODE 6717-01-P